DEPARTMENT OF JUSTICE

Antitrust Division

Notice Pursuant to the National Cooperative Research and Production Act of 1993—the Secure Identity Services Accreditation Corporation

Notice is hereby given that, on September 20, 2004, pursuant to section 6(a) of the National Cooperative Research and Production Act of 1993, 15 U.S.C. 4301 et seq. (“the Act”), The Secure Identity Services Accreditation Corporation (“SISAC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: The Secure Identity Services Accreditation Corporation, Washington, DC. The nature and scope of SISAC's standards development activities are: to adopt voluntary standards for the real estate finance industry in cooperation with mortgage lenders, government-sponsored enterprises (“GSEs”), and other organizations to set minimum standards for Public Key Infrastructure (“PKI”), other electronic authentication methods and secure identity providers.

Dorothy B. Fountain,
Deputy Director of Operations, Antitrust Division.

[FR Doc. 04-27540 Filed 12-15-04; 8:45 am]

BILLING CODE 4410-11-M